DEPARTMENT OF JUSTICE

Notice of Proposed Consent Decree and Proposed Order on Consent Under the Comprehensive Environmental Response, Compensation, and Liability Act

Notice is hereby given that on November 24, 2008, a proposed Consent Decree in United States v. Wilhelm Enterprises Corp., et al., Civil Action No. 1:08-cv-00840, was lodged with the United States District Court for the Western District of New York, and that on November 4, 2008, a proposed Administrative Order on Consent (“AOC”) was executed in connection with the Peter Cooper Landfill Superfund Site (“Site”), in the Village of Gowanda (“Village”), Cattaraugus County, New York.

The proposed Consent Decree will settle the United States' claims on behalf of the U.S. Environmental Protection Agency (“EPA”) against 19 defendants, pursuant to Sections 106 and 107 of the Comprehensive Environmental Response, Compensation, and Liability Act (“CERCLA”), 42 U.S.C. 9606 and 9607, with respect to the Site. The Site is on the National Priorities List established pursuant to Section 105(a) of CERCLA, 42 U.S.C. 9605(a). The defendants include: Wilhelm Enterprises Corporation; New York State Electric & Gas Corporation; Jimcar Development, Inc.; James Dill; Brown Shoe Company, Inc.; Seton Company; GST AutoLeather; Prime Tanning Company, Inc.; Viad Corporation; ConAgra Grocery Products Company, Inc.; Leucadia National Corporation; Beggs & Cobb Corporation; Wolverine Worldwide, Inc.; Genesco, Inc.; Albert Trostel & Sons Co.; Blackhawk Leather Ltd.; Eagle Ottawa, LLC; S.B. Foot Tanning Company; and Horween Leather Company (“Settling Defendants”). Pursuant to the Consent Decree, Settling Defendants will pay a total of $1,374,000 in past costs and interest for reimbursement of the United States' response costs for the Site. In addition, 15 of the Settling Defendants will finance and perform the remedy selected by EPA for the Site, estimated to cost $2,680,000.

The Department of Justice will receive comments relating to the proposed Consent Decree for a period of 30 days from the date of this publication. Comments on the Consent Decree should be addressed to the Assistant Attorney General, Environment and Natural Resources Division, and either emailed to pubcomment-ees.enrd@usdoj.gov or mailed to P.O. Box 7611, U.S. Department of Justice, Washington, DC 20044-7611, and should refer to United States v. Wilhelm Enterprises Corp., et al., Civil Action No. 1:08-cv-00840, D.J. Ref. 90-11-2-06887. EPA will receive comments relating to the proposed AOC for a period of 30 days from the date of this publication.

The proposed Consent Decree may be examined at the Office of the United States Attorney, Western District of New York, 138 Delaware Avenue, Buffalo, New York 14202, and at EPA, Region 2, 290 Broadway, New York, New York 10007-1866. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check in the amount of $47.50 ($0.25 per page reproduction cost) payable to the United States Treasury or, if requesting by e-mail or fax, forward the check in that amount to the Consent Decree Library at the address stated above. If requesting a copy exclusive of appendices, please enclose a check in the amount of $26.25 ($0.25 per page reproduction cost) payable to the United States Treasury.

In accordance with Section 122(i) of CERCLA, 42 U.S.C. 9622(i), EPA Region II announces the related proposed AOC, under sections 104, 106(a), 107, and 122 of CERCLA, 42 U.S.C. 9604, 9606(a), 9607, 9622. The proposed AOC obligates bona fide prospective purchasers, the Village and the Gowanda Area Redevelopment Corporation, jointly and severally with the Settling Defendants, to implement a portion of the remedy, including certain operation, maintenance and monitoring, at the Site.

EPA will accept written comments relating to the proposed AOC for a period of 30 days from the date of this publication. Comments should be sent to: Thomas Lieber, Chief, New York/Carribean Superfund Branch, Office of Regional Counsel, U.S. Environmental Protection Agency, 290 Broadway, 17th Floor, New York, NY 10007-1866. Comments should reference the Peter Cooper Landfill Superfund Site and EPA Index No. CERCLA-02-2008-2021. For a copy of the AOC, or further information, contact George Shanahan, Assistant Regional Counsel, New Jersey Superfund Branch, Office of Regional Counsel, U.S. Environmental Protection Agency, 290 Broadway, 17th Floor, New York, NY 10007-1866, telephone: (212) 637-3171.

Maureen M. Katz,
Assistant Chief, Environmental Enforcement Section, Environment and Natural Resources Division.

[FR Doc. E8-28536 Filed 12-1-08; 8:45 am]

BILLING CODE 4410-15-P